DEPARTMENT OF THE INTERIOR

Fish and Wildlife Service

Notice of Reopening the Comment Period for the Draft Southwestern Willow Flycatcher Recovery Plan for Review and Comment

AGENCY: Fish and Wildlife Service, Interior.

ACTION: Notice of document availability and reopening of comment period.

SUMMARY: The U.S. Fish and Wildlife Service announces the reopening of the comment period for the draft Recovery Plan for the southwestern willow flycatcher (Empidonax traillii extimus). Reopening the comment period will allow all interested parties an additional opportunity to submit written comments on the draft plan, will allow further meetings with the six Implementation Subgroups associated with the recovery planning effort, and will allow the Service to schedule public meetings where needed.

The breeding range of this bird includes southern California, southern Nevada, southern Utah, Arizona, New Mexico, western Texas, southwestern Colorado, and possibly extreme northern portions of the Mexican states of Baja, California del Norte, Sonora, and Chihuahua. Within this region, the species breeds in dense riparian tree and shrub communities associated with rivers, swamps, and other wetlands including lakes (e.g., reservoirs). Most of these habitats are classified as forested wetlands or scrub-shrub wetlands. The Service solicits review and comment from the public on this draft plan.

DATES: Comments on the draft Recovery Plan must be received on or before December 10, 2001 to receive consideration by the Service.

ADDRESSES: Persons wishing to review the draft Recovery Plan may obtain a copy by contacting Greg Beatty, Arizona Ecological Services Field Office, U.S. Fish and Wildlife Service, 2321 West Royal Palm Road, Suite 103, Phoenix, Arizona, 85021-4951 (602/242-0210). Written comments and materials regarding the plan should be addressed to the Field Supervisor at this same address. Comments and materials received are available on request for public inspection, by appointment, during normal business hours at the above address.

FOR FURTHER INFORMATION CONTACT: Greg Beatty (see ADDRESSES).

SUPPLEMENTARY INFORMATION:

Background

On June 6, 2001, the Service published the initial Notice of Availability of the Draft Southwestern Willow Flycatcher Recovery Plan for review and comment (66 FR 30477). The comment period encompassed by the initial Notice of Availability closed on October 4, 2001.

Restoring an endangered or threatened animal or plant species to the point where it is again a secure, self-sustaining member of its ecosystem is a primary goal of the Service's endangered species program. To help guide the recovery effort, the Service is working to prepare recovery plans for most of the listed species native to the United States. Recovery plans describe actions considered necessary for conservation of species, establish criteria for the recovery levels for downlisting or delisting them, and estimate time and cost for implementing the recovery measures needed.

The Endangered Species Act of 1973 (Act), as amended (16 U.S.C. 1531 et seq.), requires the development of recovery plans for listed species unless such a plan would not promote the conservation of a particular species. Section 4(f) of the Act, as amended in 1988, requires that public notice and an opportunity for public review and comment be provided during recovery plan development. The Service will consider all information presented during the public comment period prior to approval of each new or revised recovery plan. The Service and other Federal agencies will also take these comments into account in the course of implementing approved recovery plans.

The Draft Southwestern Willow Flycatcher Recovery Plan describes the status, current management, recovery objectives and criteria, and specific actions needed to reclassify the southwestern willow flycatcher from endangered to threatened, and to ultimately delist it. The draft Plan was developed by the Recovery Team. The team is comprised of technical specialists from the U.S. Forest Service, Rocky Mountain Research Station, Albuquerque, New Mexico; the University of California, Santa Barbara, California; New Mexico State University, Las Cruces, New Mexico; USGS Western Ecological Research Center, San Diego State University, San Diego, California; The Nature Conservancy, Tucson, Arizona; U.S. Bureau of Reclamation, Phoenix, Arizona; USGS Forest and Rangeland Ecosystem Science Center, Colorado Plateau Field Station, Flagstaff, Arizona; Arizona State University, Tempe, Arizona; California Department of Fish and Game, Santa Rosa, California; Southern Sierra Research Center, Weldon, California; New Mexico Department of Game and Fish, Santa Fe, New Mexico; and geographically-based teams of stakeholders (Implementation Subgroups), which include representatives of Native American Tribes, State and local governments, ranchers, private land owners and managers, agency representatives, and others.

The southwestern willow flycatcher is known to currently breed in dense riparian vegetation in southern California, southern Nevada, southern Utah, Arizona, New Mexico, and southwestern Colorado. Although extreme northwestern Mexico and western Texas are considered part of its breeding range, no nesting birds are presently known to occur in these areas. The dense riparian vegetation that is needed for breeding was historically rare and sparsely distributed, and is now more rare. Destruction and modification of riparian habitats have been caused mainly by: reduction or elimination of surface and subsurface water due to diversion and groundwater pumping; changes in flood and fire regimes due to dams and stream channelization; clearing and controlling vegetation, livestock grazing; changes in water and soil chemistry due to disruption of natural hydrologic cycles; and establishment of non-native plants. Concurrent with habitat loss have been increases in brood parasitism by the brown-headed cowbird (Molothrus ater) and the presence of nest predation which inhibits reproductive success and further reduces population levels. Actions needed to recover the southwestern willow flycatcher are those that would increase and improve breeding habitat by restoring and/or re-creating natural physical and biotic processes that influence riparian ecosystems, and reducing other stresses on the flycatcher. Specific actions include: changing management of surface and groundwater, including fundamental changes in dam operations, and restoring flood cycles; reducing impacts of domestic livestock, wild burros, and native ungulates; improving metapopulation stability; securing long-term protection of breeding habitat; managing exotic plant species; reducing brood parasitism by brown-headed cowbirds; conducting research to refine management practices and knowledge of ecology. The draft Plan will be revised and finalized based on comments received during meetings with the Implementation Subgroups, as well as comments received from the public.

Public Comments Solicited

The Service solicits written comments on the Draft Southwestern Willow Flycatcher Recovery Plan. All comments received by the date specified above will be considered prior to approval of the plan.

Authority

The authority for this action is Section 4(f) of the Endangered Species Act, 16 U.S.C. 1533(f).

Dated: October 1, 2001.
Stephen C. Helfert,
Regional Director.

[FR Doc. 01-25350 Filed 10-9-01; 8:45 am]

BILLING CODE 4310-55-P